DEPARTMENT OF LABOR

Office of Federal Contract Compliance Programs

41 CFR Part 60-300

RIN 1215-AB46

Affirmative Action and Nondiscrimination Obligations of Contractors and Subcontractors Regarding Disabled Veterans, Recently Separated Veterans, Other Protected Veterans, and Armed Forces Service Medal Veterans; Correction

AGENCY: Office of Federal Contract Compliance Programs, Labor.

ACTION: Notice of proposed rulemaking; correction; and extension of comment period.

SUMMARY: On January 20, 2006, the Office of Federal Contract Compliance Programs (OFCCP) published in the Federal Register a notice of proposed rulemaking (NPRM). The NPRM (71 FR 3351) proposes new regulations to implement amendments to the affirmative action provisions of the Vietnam Era Veterans' Readjustment Assistance Act of 1974 (“VEVRAA NPRM”). This document corrects the e-mail address for submitting comments on the VEVRAA NPRM. Further, to ensure that all public comments are received, this document extends the comment period for the proposed rule for seven (7) days. Respondents who sent comments to the earlier e-mail address are encouraged to contact the person named below to find out if their comments were received and re-submit them to the e-mail address below if necessary.

DATES: The comment period for the VEVRAA NPRM published January 20, 2006 (71 FR 3351) is extended to March 28, 2006.

FOR FURTHER INFORMATION CONTACT: James C. Pierce, Acting Director, Division of Policy, Planning, and Program Development, Office of Federal Contract Compliance Programs, 200 Constitution Avenue, NW., Room N3422, Washington, DC 20210. Telephone: (202) 693-0102 (voice) or (202) 693-1337 (TTY).

SUPPLEMENTARY INFORMATION:

Correction

Due to an upgrade in the computer system, the original e-mail address published in the proposed rules is not currently functioning and is not receiving e-mail comments. Accordingly, in FR Doc. 06-440 appearing on page 3351, in the Federal Register of Friday, January 20, 2006, the e-mail address shown, “ofccp-mail@dol.esa.gov,” is corrected to read “OFCCP-Public@dol.gov.”

Signed at Washington, DC, this 16th day of March, 2006.
Victoria A. Lipnic,
Assistant Secretary for Employment Standards.
Charles E. James, Sr.,
Deputy Assistant Secretary for Federal Contract Compliance.

[FR Doc. 06-2769 Filed 3-20-06; 8:45 am]

BILLING CODE 4510-CM-P